DEPARTMENT OF JUSTICE

Antitrust Division

Notice Pursuant to the National Cooperative Research and Production Act of 1993—Space Enterprise Consortium

Notice is hereby given that, on July 28, 2020, pursuant to Section 6(a) of the National Cooperative Research and Production Act of 1993, 15 U.S.C. 4301 et seq. (“the Act”), Space Enterprise Consortium (“SpEC”) has filed written notifications simultaneously with the Attorney General and the Federal Trade Commission disclosing changes in its membership. The notifications were filed for the purpose of extending the Act's provisions limiting the recovery of antitrust plaintiffs to actual damages under specified circumstances. Specifically, Applied Research Associates, Inc., Albuquerque, NM; Astranis Space Technologies Corp., San Francisco, CA; Astrobotic Technology, Inc., Pittsburgh, PA, Astroscale, U.S. Inc., Denver, CO; Chandler Automated Systems, LLC dba Vigilant Technologies, Tempe, AZ; Ciena Government Solutions, Inc., Hanover, MD; Cognitives Space, Inc., Manvel, TX; Collier Research and Development Corporation, Newport News, VA; Enduralock, LLC, Lenexa, KS; Fairwinds Technologies, LLC, Annapolis, MD; GenOne Technologies LLC, Cambridge, MA; HawkEye 360, Inc., Herndon, VA; Home2Office Computing Solutions, Inc. (dba C3 Networx), San Diego, CA; Hypergiant Galactic Systems Inc., Austin, TX; Nou Systems, Inc., Huntsville, AL; O Analytics Incorporated, Fairmont, WV; Optisys, West Jordan, UT; PredaSAR Corporation, Boca Raton, FL; Psionic, LLC, Hampton, VA; Qubitekk, Inc., Bakersfield, CA; Red Hat Professional Consulting, Inc., Raleigh, NC; Robert Doto Associates, LLC, Ft Myers, FL; Sanden High Assurance Solutions, LLC, Ashburn, VA; Sea Air Machining & Molding, Streetsboro, OH; Shift8, Inc., Arlington, VA; Square Peg Technologies LLC, Washington, DC; Steelhead Composites, Inc., Golden, CO; Stress Engineering Services, Inc., Houston, TX; Tableau Software, Inc., Seattle, WA; Umbra Lab, Inc., Santa Barbara, CA; VES LLC, Aberdeen Proving Ground, MD; and Vulcan Wireless, Inc., Carlsbad, CA, have been added as parties to this venture.

No other changes have been made in either the membership or planned activity of the group research project. Membership in this group research project remains open and SpEC intends to file additional written notifications disclosing all changes in membership.

On August 23, 2018, SpEC filed its original notification pursuant to Section 6(a) of the Act. The Department of Justice published a notice in the Federal Register pursuant to Section 6(b) of the Act on October 2, 2018 (83 FR 49576).

The last notification was filed with the Department on April 30, 2020. A notice was published in the Federal Register pursuant to Section 6(b) of the Act on May 19, 2020 (85 FR 29978).

Suzanne Morris,
Chief, Premerger and Division Statistics, Antitrust Division.

[FR Doc. 2020-17049 Filed 8-4-20; 8:45 am]

BILLING CODE 4410-11-P